DEPARTMENT OF THE TREASURY

Privacy Act of 1974; System of Records

AGENCY: Department of the Treasury.

ACTION: Notice of modified systems of records.

SUMMARY: In accordance with the Privacy Act of 1974, the Department of the Treasury (“Treasury” or the “Department”), proposes to modify the Treasury system of records notices for the Treasury systems of records listed below by adding two new routine uses to 166 systems.

DATES: Submit comments on or before July 16, 2020. The new routine uses will be applicable on July 16, 2020 unless Treasury receives comments and determines that changes to the system of records notice are necessary.

ADDRESSES: Comments may be submitted to the Federal eRulemaking Portal electronically at http://www.regulations.gov. Comments can also be sent to the Deputy Assistant Secretary for Privacy, Transparency, and Records, Department of the Treasury, 1500 Pennsylvania Avenue NW, Washington, DC 20220, Attention: Revisions to Privacy Act Systems of Records. All comments received, including attachments and other supporting documents, are part of the public record and subject to public disclosure. All comments received will be posted without change to www.regulations.gov, including any personal information provided. You should submit only information that you wish to make publicly available.

FOR FURTHER INFORMATION CONTACT: For general questions and for privacy issues please contact: Ryan Law, Deputy Assistant Secretary for Privacy, Transparency, and Records (202-622-5710), Department of the Treasury, 1500 Pennsylvania Avenue NW, Washington, DC 20220.

SUPPLEMENTARY INFORMATION: In accordance with the Privacy Act of 1974, 5 U.S.C. 552a, the Department of the Treasury (“Treasury”) proposes to modify the Treasury system of records, as identified below, to include two new routine uses permitting disclosure to appropriate persons and entities for purposes of response and remedial efforts in the event of a breach of data contained in the applicable system of records.

On May 22, 2007, the Office of Management and Budget (OMB) issued Memorandum M-07-16 “Safeguarding Against and Responding to the Breach of Personally Identifiable Information.” It required agencies to publish a routine use for their systems of records in regards to the disclosure of information in connection with response and remedial efforts in the event of a breach of personally identifiable information. Treasury published a notice in the Federal Register on October 3, 2007 (72 FR 56434), modifying the Treasury systems of records by adding the applicable routine use. New Treasury systems of records published after that date have included a breach response routine use.

On January 3, 2017, OMB issued Memorandum M-17-12, “Preparing for and Responding to a Breach of Personally Identifiable Information.” OMB Memorandum M-17-12 rescinded and replaced OMB Memorandum M-07-16 and updated the breach response routine use. OMB M-17-12 requires two new breach response routine uses, one to respond to a breach of the agencies personally identifiable information and another to ensure agencies are able to disclose records in their systems of records that may be needed by another agency in response to a breach.

This notice modifies the breach response routine use published at 72 FR 56434 in accordance with OMB M-17-12 breach response routine use; as identified in the chart below for systems of records published at 72 FR 56434; and adds a new routine use to the Treasury systems of records as identified below to ensure that Treasury can assist other agencies in responding to a confirmed or suspected breach, as appropriate.

Treasury has provided a report of this system of records to the Committee on Oversight and Government Reform of the House of Representatives, the Committee on Homeland Security and Governmental Affairs of the Senate, and OMB, pursuant to 5 U.S.C. 552a(r) and OMB Circular A-108, “Federal Agency Responsibilities for Review, Reporting, and Publication under the Privacy Act,” dated December 23, 2016.

Ryan Law,
Deputy Assistant Secretary for Privacy, Transparency, and Records.

Department of the Treasury systems of records notices, breach response routine uses and citations follow.

System No. and name | Routine uses added will be numbered | History (citation(s) of last full notice and any subsequent revisions) | Bureau
Treasury .001—Treasury Payroll and Personnel System | Add (19) and (20) | 81 FR 78266 (Nov. 7, 2016) | Department of the Treasury (Treasury-wide).
Treasury .002—Grievance Records | Add (11) and (12) | 81 FR 78266 (Nov. 7, 2016) | Department of the Treasury (Treasury-wide).
Treasury .003—Treasury Child Care Tuition Assistance Records | Add (10) and (11) | 81 FR 78266 (Nov. 7, 2016) | Department of the Treasury (Treasury-wide).
Treasury .004—Freedom of Information Act/Privacy Act Request Records | Add (11) and (12) | 81 FR 78266 (Nov. 7, 2016) | Department of the Treasury (Treasury-wide).
Treasury .005—Public Transportation Incentive Program Records | Add (10) and (11) | 81 FR 78266 (Nov. 7, 2016) | Department of the Treasury (Treasury-wide).
Treasury .006—Parking and Carpool Program Records | Add (11) and (12) | 81 FR 78266 (Nov. 7, 2016) | Department of the Treasury (Treasury-wide).
Treasury .009—Treasury Financial Management Systems | Add (19) and (20) | 81 FR 78266 (Nov. 7, 2016) | Department of the Treasury (Treasury-wide).
Treasury .010—Telephone Call Detail Records | Add (13) and (14) | 81 FR 78266 (Nov. 7, 2016) | Department of the Treasury (Treasury-wide).
Treasury .011—Treasury Safety Incident Management Information System (SIMIS) | Add (13) and (14) | 81 FR 78266 (Nov. 7, 2016) | Department of the Treasury (Treasury-wide).
Treasury .012—Fiscal Service Public Key Infrastructure | Add (8) and (9) | 81 FR 78266 (Nov. 7, 2016) | Department of the Treasury (Treasury-wide).
Treasury .013—Department of the Treasury Civil Rights Complaints and Compliance Review Files | Add (7) and (8) | 81 FR 78266 (Nov. 7, 2016) | Department of the Treasury (Treasury-wide).
Treasury .014—Department of the Treasury SharePoint User Profile Services | Add (6) and (7) | 81 FR 78266 (Nov. 7, 2016) | Department of the Treasury (Treasury-wide).
Treasury .015—General Information Technology Access Account Records | Add (M) and (N) | 81 FR 78266 (Nov. 7, 2016) | Department of the Treasury (Treasury-wide).
Treasury .016—Reasonable Accommodations Records | Add (I) and (J) | 81 FR 78266 (Nov. 7, 2016) | Department of the Treasury (Treasury-wide).
TTB .001—Regulatory Enforcement Record System | Add (15) and (16) | 80 FR 4637 (Jan 28, 2015) | Alcohol and Tobacco Tax and Trade Bureau (TTB).
BEP .002—Personal Property Claim File | Add (8) and (9) | 78 FR 22604 (Apr 16, 2013) | Bureau of Engraving and Printing (BEP).
BEP .004—Counseling Records | Add (8) and (9) | 78 FR 22604 (Apr. 16, 2013) | Bureau of Engraving and Printing (BEP).
BEP .005—Compensation Claims | Add (9) and (10) | 78 FR 22604 (Apr. 16, 2013) | Bureau of Engraving and Printing (BEP).
BEP .006—Debt Files of Employees | Add (12) and (13) | 78 FR 22604 (Apr. 16, 2013) | Bureau of Engraving and Printing (BEP).
BEP .014—Employee's Production Record | Add (8) and (9) | 78 FR 22604 (Apr. 16, 2013) | Bureau of Engraving and Printing (BEP).
BEP .016—Employee Suggestions | Add (8) and (9) | 78 FR 22604 (Apr. 16, 2013) | Bureau of Engraving and Printing (BEP).
BEP .020—Industrial Truck Licensing Records | Add (1) and (2) | 78 FR 22604 (Apr. 16, 2013) | Bureau of Engraving and Printing (BEP).
BEP .021—Investigative Files | Add (9) and (10) | 78 FR 22604 (Apr. 16, 2013) | Bureau of Engraving and Printing (BEP).
BEP .027—Access Control and Alarm Monitoring System (ACAMS) | Add (9) and (10) | 78 FR 22604 (Apr. 16, 2013) | Bureau of Engraving and Printing (BEP).
BEP .035—Tort Claims against the United States of America | Add (7) and (8) | 78 FR 22604 (Apr. 16, 2013) | Bureau of Engraving and Printing (BEP).
BEP .038—Unscheduled Absence Record | Add (7) and (8) | 78 FR 22604 (Apr. 16, 2013) | Bureau of Engraving and Printing (BEP).
BEP .041—Record of Discrimination Complaints | Add (8) and (9) | 78 FR 22604 (Apr. 16, 2013) | Bureau of Engraving and Printing (BEP).
BEP .045—Mail Order Sales Customer Files | Add (4) and (5) | 78 FR 22604 (Apr. 16, 2013) | Bureau of Engraving and Printing (BEP).
BEP .047—Employee Emergency Notification System | Add (1) and (2) | 78 FR 22604 (Apr. 16, 2013) | Bureau of Engraving and Printing (BEP).
BEP .049—Bureau of Engraving and Printing Tour Scheduling System | Add (1) and (2) | 78 FR 78512 (Dec. 26, 2013) | Bureau of Engraving and Printing (BEP).
BEP .050—Use of Shredded U.S. Currency System | Add (1) and (2) | 80 FR 13955 (Mar. 17, 2015) | Bureau of Engraving and Printing (BEP).
BEP .051—Chief Counsel Files | Add (9) and (10) | 81 FR 77003 (Nov. 4, 2016) | Bureau of Engraving and Printing (BEP).
DO .003—Law Enforcement Retirement Claims Records | Add (10) and (11) | 81 FR 78298 (Nov. 7, 2016) | Departmental Offices (DO).
DO .007—General Correspondence Files | Add (7) and (8) | 81 FR 78298 (Nov. 7, 2016) | Departmental Offices (DO).
DO .010—Office of Domestic Finance, Actuarial Valuation System | Add (2) and (3) | 81 FR 78298 (Nov. 7, 2016) | Departmental Offices (DO).
DO .015—Political Appointee Files | Add (7) and (8) | 81 FR 78298 (Nov. 7, 2016) | Departmental Offices (DO).
DO .016—Multiemployer Pension Reform Act of 2014 (MPRA) | Add (L) and (M) | 81 FR 78298 (Nov. 7, 2016) | Departmental Offices (DO).
DO .060—Correspondence Files and Records on Dissatisfaction | Add (5) and (6) | 81 FR 78298 (Nov. 7, 2016) | Departmental Offices (DO).
DO .120—Records Related to Office of Foreign Assets Control Economic Sanctions | Add (13) and (14) | 81 FR 78298 (Nov. 7, 2016) | Departmental Offices (DO).
DO .144—General Counsel Litigation Referral and Reporting System | Add (8) and (9) | 81 FR 78298 (Nov. 7, 2016) | Departmental Offices (DO).
DO .149—Foreign Assets Control Legal Files | Add (6) and (7) | 81 FR 78298 (Nov. 7, 2016) | Departmental Offices (DO).
DO .190—Office of Inspector General Investigations Management Information System | Add (10) and (11) | 81 FR 78298 (Nov. 7, 2016) | Departmental Offices (DO).
DO .191—Human Resources and Administrative Records System | Add (18) and (19) | 81 FR 78298 (Nov. 7, 2016) | Departmental Offices (DO).
DO .193—Employee Locator and Automated Directory System | Add (1) and (2) | 81 FR 78298 (Nov. 7, 2016) | Departmental Offices (DO).
DO .194—Circulation System | Add (2) and (3) | 81 FR 78298 (Nov. 7, 2016) | Departmental Offices (DO).
DO .196—Treasury Information Security Program | Add (5) and (6) | 81 FR 78298 (Nov. 7, 2016) | Departmental Offices (DO).
DO .202—Drug-Free Workplace Program Records | Add (2) and (3) | 81 FR 78298 (Nov. 7, 2016) | Departmental Offices (DO).
DO .207—Waco Administrative Review Group Investigation | Add (7) and (8) | 81 FR 78298 (Nov. 7, 2016) | Departmental Offices (DO).
DO .209—Personal Services Contracts (PSC) | Add (6) and (7) | 81 FR 78298 (Nov. 7, 2016) | Departmental Offices (DO).
DO .214—DC Pensions Retirement Records | Add (32) and (33) | 81 FR 78298 (Nov. 7, 2016) | Departmental Offices (DO).
DO .217—National Financial Literacy Challenge Records | Add (6) and (7) | 81 FR 78298 (Nov. 7, 2016) | Departmental Offices (DO).
DO .218—Making Home Affordable Program | Add (17) and (18) | 81 FR 78298 (Nov. 7, 2016) | Departmental Offices (DO).
DO .219—TARP Standards for Compensation and Corporate Governance—Executive Compensation Information | Add (9) and (10) | 81 FR 78298 (Nov. 7, 2016) | Departmental Offices (DO).
DO .220—SIGTARP Hotline Database | Add (14) and (15) | 81 FR 78298 (Nov. 7, 2016) | Departmental Offices (DO).
DO .221—SIGTARP Correspondence Database | Add (14) and (15) | 81 FR 78298 (Nov. 7, 2016) | Departmental Offices (DO).
DO .222—SIGTARP Investigative MIS Database | Add (14) and (15) | 81 FR 78298 (Nov. 7, 2016) | Departmental Offices (DO).
DO .223—SIGTARP Investigative Files Database | Add (14) and (15) | 81 FR 78298 (Nov. 7, 2016) | Departmental Offices (DO).
DO .224—SIGTARP Audit Files Database | Add (14) and (15) | 81 FR 78298 (Nov. 7, 2016) | Departmental Offices (DO).
DO .225—TARP Fraud Investigation Information System | Add (9) and (10) | 81 FR 78298 (Nov. 7, 2016) | Departmental Offices (DO).
DO .226—Validating EITC Eligibility with State Data Pilot Project Records | Add (6) and (7) | 81 FR 78298 (Nov. 7, 2016) | Departmental Offices (DO).
DO .411—Intelligence Enterprise Files | Add (21) and (22) | 81 FR 78298 (Nov. 7, 2016) | Departmental Offices (DO).
FinCEN .001—FinCEN Investigations and Examinations System | Add (12) and (13) | 79 FR 20969 (Apr. 14, 2014) | Financial Crimes Enforcement Network (FinCEN).
FinCEN .002—Suspicious Activity Report System | Add (15) and (16) | 79 FR 20969 (Apr. 14, 2014) | Financial Crimes Enforcement Network (FinCEN).
FinCEN .003—Bank Secrecy Act Reports System | Add (17) and (18) | 79 FR 20969 (Apr. 14, 2014) | Financial Crimes Enforcement Network (FinCEN).
IRS 00.001—Correspondence Files and Correspondence Control Files | Add (9) and (10) | 80 FR 54063 (Sept. 8, 2015) | Internal Revenue Service (IRS).
IRS 00.002—Correspondence Files: Inquiries about Enforcement Activities | Add (9) and (10) | 80 FR 54063 (Sept. 8, 2015) | Internal Revenue Service (IRS).
IRS 00.003—Taxpayer Advocate Service and Customer Feedback and Survey Records | Add (1) and (2) | 80 FR 54063 (Sept. 8, 2015) | Internal Revenue Service (IRS).
IRS 00.007—Employee Complaint and Allegation Referral Records | Add (10) and (11) | 80 FR 54063 (Sept. 8, 2015) | Internal Revenue Service (IRS).
IRS 00.008—Recorded Quality Review Records | Add (4) and (5) | 80 FR 54063 (Sept. 8, 2015) | Internal Revenue Service (IRS).
IRS 00.009—Taxpayer Assistance Center (TAC) Recorded Quality Review Records | Add (10) and (11) | 80 FR 54063 (Sept. 8, 2015) | Internal Revenue Service (IRS).
IRS 00.333—Third Party Contact Records | Add (1) and (2) | 80 FR 54063 (Sept. 8, 2015) | Internal Revenue Service (IRS).
IRS 00.334—Third Party Contact Reprisal Records | Add (1) and (2) | 80 FR 54063 (Sept. 8, 2015) | Internal Revenue Service (IRS).
IRS 10.001—Biographical Files, Communications and Liaison | Add (2) and (3) | 80 FR 54063 (Sept. 8, 2015) | Internal Revenue Service (IRS).
IRS 10.004—Stakeholder Relationship Management and Subject Files | Add (2) and (3) | 80 FR 54063 (Sept. 8, 2015) | Internal Revenue Service (IRS).
IRS 10.008—Certified Professional Employer Organizations | Add (8) and (9) | 81 FR 44924 (July 11, 2016) | Internal Revenue Service (IRS).
IRS 10.555—Volunteer Records | Add (6) and (7) | 80 FR 54063 (Sept. 8, 2015) | Internal Revenue Service (IRS).
IRS 21.001—Tax Administration Advisory Services Resources Records | Add (3) and (4) | 80 FR 54063 (Sept. 8, 2015) | Internal Revenue Service (IRS).
IRS 22.003—Annual Listing of Undelivered Refund Checks | Add (1) and (2) | 80 FR 54063 (Sept. 8, 2015) | Internal Revenue Service (IRS).
IRS 22.011—File of Erroneous Refunds | Add (1) and (2) | 80 FR 54063 (Sept. 8, 2015) | Internal Revenue Service (IRS).
IRS 22.012—Health Coverage Tax Credit (HCTC) Program Records | Add (1) and (2) | 80 FR 54063 (Sept. 8, 2015) | Internal Revenue Service (IRS).
IRS 22.026—Form 1042S Index by Name of Recipient | Add (1) and (2) | 80 FR 54063 (Sept. 8, 2015) | Internal Revenue Service (IRS).
IRS 22.027—Foreign Information System (FIS) | Add (1) and (2) | 80 FR 54063 (Sept. 8, 2015) | Internal Revenue Service (IRS).
IRS 22.028—Disclosure Authorizations for U.S. Residency Certification Letters | Add (1) and (2) | 80 FR 54063 (Sept. 8, 2015) | Internal Revenue Service (IRS).
IRS 22.032—Individual Microfilm Retention Register | Add (1) and (2) | 80 FR 54063 (Sept. 8, 2015) | Internal Revenue Service (IRS).
IRS 22.054—Subsidiary Accounting Files | Add (1) and (2) | 80 FR 54063 (Sept. 8, 2015) | Internal Revenue Service (IRS).
IRS 22.060—Automated Non-Master File | Add (1) and (2) | 80 FR 54063 (Sept. 8, 2015) | Internal Revenue Service (IRS).
IRS 22.061—Information Return Master File | Add (1) and (2) | 80 FR 54063 (Sept. 8, 2015) | Internal Revenue Service (IRS).
IRS 22.062—Electronic Filing Records | Add (10) and (11) | 80 FR 54063 (Sept. 8, 2015) | Internal Revenue Service (IRS).
IRS 24.030—Customer Account Data Engine Individual Master File | Add (1) and (2) | 80 FR 54063 (Sept. 8, 2015) | Internal Revenue Service (IRS).
IRS 24.046—Customer Account Data Engine Business Master File | Add (1) and (2) | 80 FR 54063 (Sept. 8, 2015) | Internal Revenue Service (IRS).
IRS 24.047—Audit Underreporter Case Files | Add (1) and (2) | 80 FR 54063 (Sept. 8, 2015) | Internal Revenue Service (IRS).
IRS 26.001—Acquired Property Records | Add (1) and (2) | 80 FR 54063 (Sept. 8, 2015) | Internal Revenue Service (IRS).
IRS 26.006—Form 2209, Courtesy Investigations | Add (1) and (2) | 80 FR 54063 (Sept. 8, 2015) | Internal Revenue Service (IRS).
IRS 26.009—Lien Files | Add (1) and (2) | 80 FR 54063 (Sept. 8, 2015) | Internal Revenue Service (IRS).
IRS 26.012—Offer in Compromise Files | Add (1) and (2) | 80 FR 54063 (Sept. 8, 2015) | Internal Revenue Service (IRS).
IRS 26.013—Trust Fund Recovery Cases/One Hundred Percent Penalty Cases | Add (1) and (2) | 80 FR 54063 (Sept. 8, 2015) | Internal Revenue Service (IRS).
IRS 26.014—Record 21, Record of Seizure and Sale of Real Property | Add (1) and (2) | 80 FR 54063 (Sept. 8, 2015) | Internal Revenue Service (IRS).
IRS 26.019—Taxpayer Delinquent Account Files | Add (1) and (2) | 80 FR 54063 (Sept. 8, 2015) | Internal Revenue Service (IRS).
IRS 26.020—Taxpayer Delinquency Investigation Files | Add (1) and (2) | 80 FR 54063 (Sept. 8, 2015) | Internal Revenue Service (IRS).
IRS 26.021—Transferee Files | Add (1) and (2) | 80 FR 54063 (Sept. 8, 2015) | Internal Revenue Service (IRS).
IRS 30.003—Requests for Printed Tax Materials Including Lists | Add (3) and (4) | 80 FR 54063 (Sept. 8, 2015) | Internal Revenue Service (IRS).
IRS 30.004—Security Violations | Add (3) and (4) | 80 FR 54063 (Sept. 8, 2015) | Internal Revenue Service (IRS).
IRS 34.003—Assignment and Accountability of Personal Property Files | Add (5) and (6) | 80 FR 54063 (Sept. 8, 2015) | Internal Revenue Service (IRS).
IRS 34.009—Safety Program Files | Add (8) and (9) | 80 FR 54063 (Sept. 8, 2015) | Internal Revenue Service (IRS).
IRS 34.012—Emergency Preparedness Cadre Assignments and Alerting Roster Files | Add (3) and (4) | 80 FR 54063 (Sept. 8, 2015) | Internal Revenue Service (IRS).
IRS 34.013—Identification Media Files System for Employees and Others Issued IRS Identification | Add (3) and (4) | 80 FR 54063 (Sept. 8, 2015) | Internal Revenue Service (IRS).
IRS 34.014—Motor Vehicle Registration and Entry Pass Files | Add (3) and (4) | 80 FR 54063 (Sept. 8, 2015) | Internal Revenue Service (IRS).
IRS 34.016—Security Clearance Files | Add (4) and (5) | 80 FR 54063 (Sept. 8, 2015) | Internal Revenue Service (IRS).
IRS 34.021—Personnel Security Investigations | Add (7) and (8) | 80 FR 54063 (Sept. 8, 2015) | Internal Revenue Service (IRS).
IRS 34.022—Automated Background Investigations System (ABIS) | Add (8) and (9) | 80 FR 54063 (Sept. 8, 2015) | Internal Revenue Service (IRS).
IRS 34.037—Audit Trail and Security Records | Add (7) and (8) | 80 FR 54063 (Sept. 8, 2015) | Internal Revenue Service (IRS).
IRS 35.001—Reasonable Accommodation Request Records | Add (13) and (14) | 80 FR 54063 (Sept. 8, 2015) | Internal Revenue Service (IRS).
IRS 36.001—Appeals, Grievances and Complaints Records | Add (11) and (12) | 80 FR 54063 (Sept. 8, 2015) | Internal Revenue Service (IRS).
IRS 36.003—General Personnel and Payroll Records | Add (20) and (21) | 80 FR 54063 (Sept. 8, 2015) | Internal Revenue Service (IRS).
IRS 37.006—Correspondence, Miscellaneous Records, and Information Management Records | Add (6) and (7) | 80 FR 54063 (Sept. 8, 2015) | Internal Revenue Service (IRS).
IRS 37.007—Practitioner Disciplinary Records | Add (14) and (15) | 80 FR 54063 (Sept. 8, 2015) | Internal Revenue Service (IRS).
IRS 37.009—Enrolled Agent and Enrolled Retirement Plan Agent Records | Add (10) and (11) | 80 FR 54063 (Sept. 8, 2015) | Internal Revenue Service (IRS).
IRS 37.111—Preparer Tax Identification Number Records | Add (16) and (17) | 80 FR 54063 (Sept. 8, 2015) | Internal Revenue Service (IRS).
IRS 42.001—Examination Administrative Files | Add (1) and (2) | 80 FR 54063 (Sept. 8, 2015) | Internal Revenue Service (IRS).
IRS 42.002—Excise Compliance Programs | Add (1) and (2) | 80 FR 54063 (Sept. 8, 2015) | Internal Revenue Service (IRS).
IRS 42.005—Whistleblower Office Records | Add (1) and (2) | 80 FR 54063 (Sept. 8, 2015) | Internal Revenue Service (IRS).
IRS 42.008—Audit Information Management System | Add (1) and (2) | 80 FR 54063 (Sept. 8, 2015) | Internal Revenue Service (IRS).
IRS 42.017—International Enforcement Program Information Files | Add (1) and (2) | 80 FR 54063 (Sept. 8, 2015) | Internal Revenue Service (IRS).
IRS 42.021—Compliance Programs and Projects Files | Add (1) and (2) | 80 FR 54063 (Sept. 8, 2015) | Internal Revenue Service (IRS).
IRS 42.027—Data on Taxpayers' Filing on Foreign Holdings | Add (1) and (2) | 80 FR 54063 (Sept. 8, 2015) | Internal Revenue Service (IRS).
IRS 42.031—Anti-Money Laundering/Bank Secrecy Act and Form 8300 | Add (9) and (10) | 80 FR 54063 (Sept. 8, 2015) | Internal Revenue Service (IRS).
IRS 42.888—Qualifying Therapeutic Discovery Project Records | Add (9) and (10) | 80 FR 54063 (Sept. 8, 2015) | Internal Revenue Service (IRS).
IRS 44.001—Appeals Case Files | Add (1) and (2) | 80 FR 54063 (Sept. 8, 2015) | Internal Revenue Service (IRS).
IRS 44.003—Appeals Centralized Data | Add (1) and (2) | 80 FR 54063 (Sept. 8, 2015) | Internal Revenue Service (IRS).
IRS 44.004—Art Case Files | Add (9) and (10) | 80 FR 54063 (Sept. 8, 2015) | Internal Revenue Service (IRS).
IRS 44.005—Expert Witness and Fee Appraiser Files | Add (9) and (10) | 80 FR 54063 (Sept. 8, 2015) | Internal Revenue Service (IRS).
IRS 46.002—Criminal Investigation Management Information System and Case Files | Add (12) and (13) | 80 FR 54063 (Sept. 8, 2015) | Internal Revenue Service (IRS).
IRS 46.003—Confidential Informants | Add (11) and (12) | 80 FR 54063 (Sept. 8, 2015) | Internal Revenue Service (IRS).
IRS 46.005—Electronic Surveillance and Monitoring Records | Add (11) and (12) | 80 FR 54063 (Sept. 8, 2015) | Internal Revenue Service (IRS).
IRS 46.015—Relocated Witnesses | Add (1) and (2) | 80 FR 54063 (Sept. 8, 2015) | Internal Revenue Service (IRS).
IRS 46.050—Automated Information Analysis System | Add (11) and (12) | 80 FR 54063 (Sept. 8, 2015) | Internal Revenue Service (IRS).
IRS 48.001—Disclosure Records | Add (6) and (7) | 80 FR 54063 (Sept. 8, 2015) | Internal Revenue Service (IRS).
IRS 48.008—Defunct Special Service Staff Files Being Retained Because of Congressional Directive | Add (3) and (4) | 80 FR 54063 (Sept. 8, 2015) | Internal Revenue Service (IRS).
IRS 49.001—Collateral and Information Requests System | Add (1) and (2) | 80 FR 54063 (Sept. 8, 2015) | Internal Revenue Service (IRS).
IRS 49.002—Tax Treaty Information Management System | Add (1) and (2) | 80 FR 54063 (Sept. 8, 2015) | Internal Revenue Service (IRS).
IRS 50.001—Tax Exempt & Government Entities (TE/GE) Correspondence Control Records | Add (1) and (2) | 80 FR 54063 (Sept. 8, 2015) | Internal Revenue Service (IRS).
IRS 50.003—Tax Exempt & Government Entities (TE/GE) Reports of Significant Matters | Add (1) and (2) | 80 FR 54063 (Sept. 8, 2015) | Internal Revenue Service (IRS).
IRS 50.222—Tax Exempt/Government Entities (TE/GE) Case Management Records | Add (1) and (2) | 80 FR 54063 (Sept. 8, 2015) | Internal Revenue Service (IRS).
IRS 60.000—Employee Protection System Records | Add (7) and (8) | 80 FR 54063 (Sept. 8, 2015) | Internal Revenue Service (IRS).
IRS 70.001—Individual Income Tax Returns, Statistics of Income | Add (1) and (2) | 80 FR 54063 (Sept. 8, 2015) | Internal Revenue Service (IRS).
IRS 90.001—Chief Counsel Management Information System Records | Add (13) and (14) | 80 FR 54063 (Sept. 8, 2015) | Internal Revenue Service (IRS).
IRS 90.002—Chief Counsel Litigation and Advice (Civil) Records | Add (23) and (24) | 80 FR 54063 (Sept. 8, 2015) | Internal Revenue Service (IRS).
IRS 90.003—Chief Counsel Litigation and Advice (Criminal) Records | Add (15) and (16) | 80 FR 54063 (Sept. 8, 2015) | Internal Revenue Service (IRS).
IRS 90.004—Chief Counsel Legal Processing Division Records | Add (15) and (16) | 80 FR 54063 (Sept. 8, 2015) | Internal Revenue Service (IRS).
IRS 90.005—Chief Counsel Library Records | Add (9) and (10) | 80 FR 54063 (Sept. 8, 2015) | Internal Revenue Service (IRS).
IRS 90.006—Chief Counsel Human Resources and Administrative Records | Add (26) and 27) | 80 FR 54063 (Sept. 8, 2015) | Internal Revenue Service (IRS).
CC .100—Enforcement Action Report System | Add (9) and (10) | 81 FR 2945 (Jan. 19, 2016) | Office of the Comptroller of the Currency (OCC).
CC .110—Reports of Suspicious Activities | Add (9) and (10) | 81 FR 2945 (Jan. 19, 2016) | Office of the Comptroller of the Currency (OCC).
CC .120—Bank Fraud Information System | Add (9) and (10) | 81 FR 2945 (Jan. 19, 2016) | Office of the Comptroller of the Currency (OCC).
CC .200—Chain Banking Organizations System | Add (8) and (9) | 81 FR 2945 (Jan. 19, 2016) | Office of the Comptroller of the Currency (OCC).
CC .210—Bank Securities Dealers System | Add (10) and (11) | 81 FR 2945 (Jan. 19, 2016) | Office of the Comptroller of the Currency (OCC).
CC .340—Access Control System | Add (7) and (8) | 81 FR 2945 (Jan. 19, 2016) | Office of the Comptroller of the Currency (OCC).
CC. 341—Mass Communication System | Add (4) and (5) | 81 FR 2945 (Jan. 19, 2016) | Office of the Comptroller of the Currency (OCC).
CC .500—Chief Counsel's Management Information System | Add (10) and (11) | 81 FR 2945 (Jan. 19, 2016) | Office of the Comptroller of the Currency (OCC).
CC .510—Litigation Information System | Add (9) and (10) | 81 FR 2945 (Jan. 19, 2016) | Office of the Comptroller of the Currency (OCC).
CC .600—Consumer Complaint and Inquiry Information System | Add (10) and (11) | 81 FR 2945 (Jan. 19, 2016) | Office of the Comptroller of the Currency (OCC).
CC .700—Correspondence Tracking System | Add (9) and (10) | 81 FR 2945 (Jan. 19, 2016) | Office of the Comptroller of the Currency (OCC).
CC .701—Retiree Billing System | Add (4) and (5) | 81 FR 2945 (Jan. 19, 2016) | Office of the Comptroller of the Currency (OCC).
CC .800—Office of Inspector General Investigations System | Add (10) and (11) | 81 FR 2945 (Jan. 19, 2016) | Office of the Comptroller of the Currency (OCC).

The remainder of Treasury's systems of records for the 166 records remains unchanged except for the two breach routine uses identified below.Treasury's system of records routine use numbers are listed above, and the breach response routine use are replaced as follows:

ROUTINE USES OF RECORDS MAINTAINED IN THE SYSTEM, INCLUDING CATEGORIES OF USERS AND THE PURPOSES OF SUCH USES:

( ) To appropriate agencies, entities, and persons when (1) the Department of the Treasury and/or Treasury bureau suspects or has confirmed that there has been a breach of the system of records; (2) the Department of the Treasury and/or Treasury bureau has determined that as a result of the suspected or confirmed breach there is a risk of harm to individuals, the Department of the Treasury and/or Treasury bureau(s) (including its information systems, programs, and operations), the Federal Government, or national security; and (3) the disclosure made to such agencies, entities, and persons is reasonably necessary to assist in connection with the Department of the Treasury's and/or Treasury bureau's efforts to respond to the suspected or confirmed breach or to prevent, minimize, or remedy such harm;

( ) To another Federal agency or Federal entity, when the Department of the Treasury and/or Treasury bureau determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

[FR Doc. 2020-12899 Filed 6-15-20; 8:45 am]

BILLING CODE 4810-25-P